NUCLEAR REGULATORY COMMISSION

[NRC-2020-0231]

Risk-Informed, Performance-Based Fire Protection for Existing Light-Water Nuclear Power Plants

AGENCY: Nuclear Regulatory Commission.

ACTION: Draft regulatory guide; request for comment.

SUMMARY: The U.S. Nuclear Regulatory Commission (NRC) is issuing for public comment draft regulatory guide (DG), DG-1360, “Risk-Informed, Performance-Based Fire Protection for Existing Light-Water Nuclear Power Plants.” This regulatory guide (RG) describes an approach that is acceptable to the NRC staff to meet the regulatory requirements in the NRC's regulations and the National Fire Protection Association (NFPA) Standard 805, “Performance-Based Standard for Fire Protection for Light Water Reactor Electric Generating Plants,” 2001 Edition, which is incorporated by reference in the NRC's regulations.

DATES: Submit comments by December 31, 2020. Comments received after this date will be considered if it is practical to do so, but the NRC is able to ensure consideration only for comments received on or before this date. Although a time limit is given, comments and suggestions in connection with items for inclusion in guides currently being developed or improvements in all published guides are encouraged at any time.

ADDRESSES: You may submit comments by any of the following methods; however, the NRC encourages electronic comment submission through the Federal Rulemaking website:

• Federal Rulemaking website: Go to https://www.regulations.gov and search for Docket ID NRC-2020-0231. Address questions about NRC docket IDs in Regulations.gov to Jennifer Borges; telephone: 301-287-9127; email: Jennifer.Borges@nrc.gov. For technical questions, contact the individuals listed in the FOR FURTHER INFORMATION CONTACT section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Shivani Mehta, Office of Nuclear Reactor Regulation, telephone: 301-415-0860, email: Shivani.Mehta@nrc.gov; Charles Moulton, Office of Nuclear Reactor Regulation, telephone: 301-415-2751, email: Charles.Moulton@nrc.gov; or Michael Eudy, Office of Nuclear Regulatory Research, telephone: 301-415-3104, email: Michael.Eudy@nrc.gov. All are staff of the U.S. Nuclear Regulatory Commission, Washington, DC 20555-0001.

SUPPLEMENTARY INFORMATION:

I. Obtaining Information and Submitting Comments

A. Obtaining Information

Please refer to Docket ID NRC-2020-0231 when contacting the NRC about the availability of information for this action. You may obtain publicly available information related to this action by any of the following methods:

• Federal Rulemaking website: Go to https://www.regulations.gov and search for Docket ID NRC-2020-0231.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room reference staff at 1-800-397-4209, 301-415-4737, or by email to pdr.resource@nrc.gov.

• Attention: The PDR, where you may examine and purchase copies of public documents, is currently closed. You may submit your request to the PDR via email at PDR.Resource@nrc.gov or call 1-800-397-4209 between 8:00 a.m. and 4:00 p.m. (EST), Monday through Friday, except Federal holidays.

B. Submitting Comments

The NRC encourages electronic comment submission through the Federal Rulemaking website (https://www.regulations.gov). Please include Docket ID NRC-2020-0231 in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Additional Information

The NRC is issuing for public comment a draft guide in the NRC's “Regulatory Guide” series. This series was developed to describe methods that are acceptable to the NRC staff for implementing specific parts of the agency's regulations, to explain techniques that the staff uses in evaluating specific issues or postulated events, and to describe information that the staff needs in its review of applications for permits and licenses.

The DG, titled “Risk-Informed, Performance-Based Fire Protection for Existing Light-Water Nuclear Power Plants,” is temporarily identified by its task number, DG-1360 (ADAMS Accession No. ML20231A856). The draft guide DG-1360 is a proposed Revision 2 of RG 1.205. This revision of the guide (Revision 2) addresses new information identified since the guide was previously revised in 2009. This RG updates the previous staff positions and endorsements made regarding earlier versions of Nuclear Energy Institute (NEI) guidance documents, NEI-04-02, “Guidance for Implementing a Risk-Informed, Performance-Based Fire Protection Program Under 10 CFR 50.48(c),” and NEI 00-01, “Guidance for Post Fire Safe Shutdown Circuit Analysis.” This revision endorses NEI 04-02, Revision 3, issued 2019, and portions of NEI-00-01, Revision 4, issued 2019, and includes guidance concerning fire-induced circuit failures.

The staff is also issuing for public comment a draft regulatory analysis (ADAMS Accession No. ML20231A891). The staff develops a regulatory analysis to assess the value of issuing or revising a regulatory guide as well as alternative courses of action.

Backfitting, Forward Fitting, and Issue Finality

DG-1360, if finalized, would incorporate the latest information concerning risk-informed, performance-based fire protection programs and supporting guidance. Issuance of DG-1360, if finalized, would not constitute backfitting, as that term is defined in section 50.109 of title 10 of Code of Federal Regulations (CFR), “Backfitting,” and as described in NRC Management Directive 8.4, “Management of Backfitting, Forward Fitting, Issue Finality, and Information Requests”; constitute forward fitting, as that term is defined and described in Management Directive 8.4; or affect the issue finality of any approval issued under 10 CFR part 52. As explained in DG-1360, applicants and licensees would not be required to comply with the positions set forth in DG-1360.

Dated: November 9, 2020.
For the Nuclear Regulatory Commission.
Meraj Rahimi,
Chief, Regulatory Guidance and Generic Issues Branch, Division of Engineering, Office of Nuclear Regulatory Research.

[FR Doc. 2020-25173 Filed 11-13-20; 8:45 am]

BILLING CODE 7590-01-P